DEPARTMENT OF LABOR

Employment and Training Administration

[TA-W-60,017]

Kimberly-Clark Corporation, Kimberly-Clark Global Sales, Incorporated, a Wholly Owned Subsidiary of Kimberly-Clark Corporation Including On-Site Leased Workers From Hewlett Packard, Neenah, WI; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on September 26, 2006, applicable to workers of Kimberly-Clark Corporation, Kimberly-Clark Global Sales, Inc., a wholly owned subsidiary of Kimberly-Clark Corporation, Neenah, Wisconsin. The notice was published in the Federal Register on October 16, 2006 (71 FR 60762).

At the request of a petitioner, the Department reviewed the certification for workers of the subject firm. The workers were engaged in support activities for affiliated plants engaged in the production of disposable diapers, pull-ups and wipes.

New information shows that leased workers of Hewlett Packard were employed on-site at the Neenah, Wisconsin location of Kimberly-Clark Corporation, Kimberly-Clark Global Sales, Inc., a wholly owned subsidiary of Kimberly-Clark Corporation. The Department has determined that these workers were sufficiently under the control of Kimberly-Clark Corporation, Kimberly-Clark Global Sales, Inc., a wholly owned subsidiary of Kimberly-Clark Corporation to be considered leased workers.

Based on these findings, the Department is amending this certification to include leased workers of Hewlett Packard working on-site at the Neenah, Wisconsin location of the subject firm.

The intent of the Department's certification is to include all workers employed at Kimberly-Clark Corporation, Kimberly-Clark Global Sales, Inc., a wholly owned subsidiary of Kimberly-Clark Corporation, Neenah, Wisconsin, who were adversely-impacted by a shift in production of disposable diapers, pull-ups and wipes to Mexico.

The amended notice applicable to TA-W-60,017 is hereby issued as follows:

All workers of Kimberly-Clark Corporation, Kimberly-Clark Global Sales, Incorporated, a wholly owned subsidiary of Kimberly-Clark Corporation, including on-site leased workers of Hewlett Packard, Neenah, Wisconsin, who became totally or partially separated from employment on or after September 6, 2005 through September 26, 2008, are eligible to apply for adjustment assistance under section 223 of the Trade Act of 1974, and are also eligible to apply for alternative trade adjustment assistance under section 246 of the Trade Act of 1974.

Signed at Washington, DC, this 8th day of February 2008.
Elliott S. Kushner,
Certifying Officer, Division of Trade Adjustment Assistance.

[FR Doc. E8-3216 Filed 2-21-08; 8:45 am]

BILLING CODE 4510-FN-P